DEPARTMENT OF COMMERCE

Foreign-Trade Zones Board

[B-13-2013]

Foreign-Trade Zone 50—Long Beach, California; Authorization of Production Activity; Panasonic Corporation of North America (Kitting of Consumer Electronics); Anaheim, California

On January 29, 2013, the Board of Harbor Commissioners of the Port of Long Beach, grantee of FTZ 50, submitted a notification of proposed production activity to the Foreign-Trade Zones (FTZ) Board on behalf of Panasonic Corporation of North America, within Site 31 of FTZ 50, in Anaheim, California.

The notification was processed in accordance with the regulations of the FTZ Board (15 CFR part 400), including notice in the Federal Register inviting public comment (78 FR 9667, 2-11-2013). The FTZ Board has determined that no further review of the activity is warranted at this time. The production activity described in the notification is authorized, subject to the FTZ Act and the Board's regulations, including Section 400.14.

Dated: May 30, 2013.
Andrew McGilvray,
Executive Secretary.

[FR Doc. 2013-13314 Filed 6-4-13; 8:45 am]

BILLING CODE 3510-DS-P